DEPARTMENT OF TRANSPORTATION

Federal Highway Administration

49 CFR Part 24

[FHWA Docket No. FHWA-2003-14747]

FHWA RIN 2125-AE97

Uniform Relocation Assistance and Real Property Acquisition for Federal and Federally-Assisted Programs

AGENCY: Federal Highway Administration (FHWA), DOT.

ACTION: Correction to final rule.

SUMMARY: This document corrects the final rule updating 49 CFR Part 24 published in the Federal Register on January 4, 2005 (70 FR 590). The FHWA is making two corrections. First, references to “market value” are corrected to “fair market value.” Second, in Appendix A, Section 24.103 the numerical reference is corrected.

DATES: Effective Date(s): June 1, 2005

FOR FURTHER INFORMATION CONTACT: Mr. Reginald K. Bessmer, Office of Real Estate Services, HEPR, 202-366-2037, or Ms. JoAnne Robinson, Office of the Chief Counsel, HCC-30, (202) 366-1346, Federal Highway Administration, 400 Seventh Street, SW., Washington, DC 20590-0001. Office hours for the FHWA are from 7:45 a.m. to 4:15 p.m., e.t., Monday through Friday, except Federal holidays.

SUPPLEMENTARY INFORMATION:

Electronic Access

Internet users can access all comments received by the U.S. DOT Dockets, Room PL-401, by using the universal resource locator (URL): ­ http://dms.dot.gov. It is available 24 hours each day, 365 days each year. Please follow the instructions online for more information and help.

Internet users may also reach the Office of the Federal Register's home page at: http://www.archives.gov and the Government Printing Office's Web page at: http://www.access.gpo.gov/nara.

Background

The FHWA published a final rule updating 49 CFR Part 24 on January 4, 2005, at 70 FR 590. After reviewing the final published document, the FHWA realized that there were two mistakes.

First, the language in the final rule cited market value rather than fair market value in twelve locations. In the notice of proposed rulemaking, published on December 17, 2003 (68 FR 70342), we proposed changing the term from “fair market value” to “market value.” However, after reviewing the comments in response to the NPRM, we decided not to make that change in the final rule. In fact, in the preamble discussion of the final rule, we discussed the fact that a commenter indicated that the term “market value” did not reflect current appraisal terminology nor was it universally accepted eminent domain terminology. Therefore, we clearly stated that the term “fair market value” is consistent with Uniform Act language and, accordingly, we will retain the term “fair market value.” (See preamble to final rule at 70 FR 595). Additionally, clearly the intent was to use fair market value, as cited in Appendix A, Subpart B-Real Property Acquisition, where use of fair market value is cited as being “used throughout this subpart.” It was an unintentional oversight that the term “market value” remained in the text of the final rule.

Secondly, we discovered an error in a numerical reference to a cite. In Appendix A, Section 24.103(a), Appraisal requirements, the reference “49 CFR 24.103(a)(1) through (5)” should read “49 CFR 24.103(a)(2)(i) through (v).”

Rulemaking Analyses and Notices

Executive Order 12866 (Regulatory Planning and Review) and DOT Regulatory Policies and Procedures

The FHWA has determined that this action is not a significant regulatory action within the meaning of Executive Order 12866 and the U.S. Department of Transportation regulatory policies and procedures. This action merely corrects terminology and a reference citation in the final rule. This correction is not a substantive change to the rule, but rather, is a ministerial change necessary to accurately reflect the intent of the FHWA.

Regulatory Flexibility Act

In compliance with the Regulatory Flexibility Act (Pub. L. 96-354, 5 U.S.C. 601-612), the FHWA has evaluated the effects of this final rule on small entities and has determined it will not have a significant economic impact on a substantial number of small entities.

Unfunded Mandates Reform Act of 1995

This rule does not impose unfunded mandates as defined by the Unfunded Mandates Reform Act of 1995 (Pub. L. 104-4, March 22, 1995, 109 Stat. 48). This rule will not result in the expenditure by State, local, and tribal governments, in the aggregate, or by the private sector, of $100 million in any one year.

Executive Order 13132 (Federalism)

This action has been analyzed in accordance with the principles and criteria contained in Executive Order 13132, and the FHWA has determined that this action does not have sufficient federalism implications to warrant the preparation of a Federalism assessment. The FHWA has also determined that this action does not preempt any State law or State regulation or affect the States' ability to discharge traditional State governmental functions.

Executive Order 12372 (Intergovernmental Review)

Catalog of Federal Domestic Assistance Program Number 20.205, Highway Planning and Construction; 20.500 Federal Transit Capital Improvement Grants; 20.505, Federal Transit Metropolitan Planning Grants; 20.507, Federal Transit Formula Grants; 20.515, State Planning and Research. The regulations implementing Executive Order 12372 regarding intergovernmental consultation on Federal programs and activities apply to this program.

Paperwork Reduction Act

This action does not contain a collection of information requirement under the Paperwork Reduction Act of 1995, 44 U.S.C. 3501-3520.

National Environmental Policy Act

The FHWA has analyzed this action for the purpose of the National Environmental Policy Act of 1969 (42 U.S.C. 4321-4347) and has determined that this action will not have any effect on the quality of environment.

Executive Order 13175 (Tribal Consultation)

The FHWA has analyzed this action under Executive Order 13175, dated November 6, 2000. This action will not have substantial direct effects on one or more Indian tribes; will not impose substantial direct compliance costs on Indian tribal governments; and will not preempt tribal law. Therefore, a tribal summary impact statement is not required.

Executive Order 13211 (Energy Effects)

We have analyzed this action under Executive Order 13211, Actions Concerning Regulations That Significantly Affect Energy Supply, Distribution, or Use. We have determined that this rule is not a significant energy action under EO 11321 because this rule is not a significant regulatory action and it is not likely to have a significant adverse effect on the supply, distribution, or use of energy. Therefore, a Statement of Energy Effects under Executive Order 13211 is not required.

Executive Order 12988 (Civil Justice Reform)

This action meets applicable standards in sections 3(a) and 3(b)(2) of Executive Order 12988, Civil Justice Reform, to minimize litigation, eliminate ambiguity, and reduce burden.

Executive Order 13045 (Protection of Children)

We have analyzed this action under Executive Order 13045, Protection of Children from Environmental Health Risks and Safety Risks. This action is not an economically significant rule and does not concern an environmental risk to health or safety that may disproportionately affect children.

Executive Order 12630 (Taking of Private Property)

This action will not effect a taking of private property or otherwise have taking implications under Executive Order 12630, Government Actions and Interference with Constitutionally Protected Property Rights.

Regulation Identification Number

A regulation identification number (RIN) is assigned to each regulatory action listed in the Unified Agenda of Federal Regulations. The Regulatory Information Service Center publishes the Unified Agenda in April and October of each year. The RIN contained in the heading of this document can be used to cross-reference this action with the Unified Agenda.

List of Subjects in 49 CFR Part 24

Real property acquisition, Relocation assistance, Reporting and recordkeeping requirements and Transportation.

Issued on: April 26, 2005.
Mary E. Peters,
Federal Highway Administrator.

In consideration of the foregoing, the Federal Highway Administration amends title 49, Code of Federal Regulations, part 24, as set forth below:

PART 24—UNIFORM RELOCATION ASSISTANCE AND REAL PROPERTY ACQUISITION FOR FEDERAL AND FEDERALLY-ASSISTED PROGRAMS

1. The authority citation for Part 24 continues to read as follows:

Authority: 42 U.S.C. 4601 et seq.; 49 CFR 1.48(cc).

§ 24.102, 24.103, 24.105, 24.301, 24.401, 24.403, Appendix A to Part 24 [Amended]

2. In part 24, remove the word “market value” and add, in their place, the words fair market value” in the following places:

a. Section 24.102(d) and (j);

b. Section 24.103(b);

c. Section 24.105(c);

d. Section 24.301(g)(14)(i), in the third sentence

e. Section 24.401(c)(2)(iii);

f. Sections 24.403(a)(3) and (c)(6);

g. Appendix A, Section 24.101(b)(1)(iv) and (2)(ii);

h. Appendix A, Section 24.103(a), in the third paragraph; and

i. Appendix A, Section 24.401(c)(2)(iii).

Appendix A to Part 24 [Amended]

3. Amend Appendix A to Part 24, Section 24.103(a), Appraisal requirements, in the last sentence of the third paragraph, by removing the citation “49 CFR 24.103(a)(1) through (5)” and adding, in its place, the citation “49 CFR 24.103(a)(2)(i) through (v)”.

[FR Doc. 05-8727 Filed 4-29-05; 8:45 am]

BILLING CODE 4910-22-P